DEPARTMENT OF COMMERCE

International Trade Administration

[Docket No.: 180806732-8732-01]

Trade Fair Certification (TFC) Program: Notice of Change of Application Deadline and Mailing Address

AGENCY: International Trade Administration, Department of Commerce.

ACTION: Notice of change of application deadline and mailing address.

SUMMARY: The United States Department of Commerce, International Trade Administration, is updating the Trade Fair Certification (TFC) program established under 22 U.S.C. 2455(f) to revise the application mailing address and the deadline for application submission for the Program. The updated TFC program guidelines can be found at: https://2016.export.gov/tradefairs/eg_main_018560.asp.

DATES: Applicable on August 29, 2018.

ADDRESSES: Applications for TFC consideration should be mailed via preferred courier method to: Vidya Desai, Trade Fair Certification, 1401 Constitution Avenue NW, Mailstop 52024, Washington, DC 20230, Phone: 202-482-2311.

To ensure timely delivery of your application, please also email your application to: TFC@trade.gov.

FOR FURTHER INFORMATION CONTACT: Vidya Desai, Senior Advisor, Trade Events, Office of Trade Promotion Programs, U.S. Department of Commerce, TFC@trade.gov.

SUPPLEMENTARY INFORMATION:

New Mailing Address: The Office of Trade Promotion Programs, which administers the TFC program for the U.S. Department of Commerce, has moved its physical office location from the Ronald Reagan Building to the main Herbert C. Hoover Commerce Building located at 1401 Constitution Ave. NW. This change is reflected on the website at: https://2016.export.gov/tradefairs/eg_main_018561.asp.

Revised Application Deadline: The TFC program is revising the deadline for applying for certification from 270 days prior to the start date of the show to 180 days prior to the start date of the trade show for which the application is being submitted. In addition, should applications not be received at least 180 days prior to the start date of the show, the TFC program will allow for a grace period of 5 business days to receive the application.

This change is reflected on the website at: https://2016.export.gov/tradefairs/eg_main_018559.asp and https://2016.export.gov/tradefairs/eg_main_018559.asp.

William Ross,
Supervisory International Trade Specialist/Team Leader, Office of Trade Promotion Programs.

[FR Doc. 2018-18617 Filed 8-28-18; 8:45 am]

BILLING CODE 3510-DR-P